BUREAU OF CONSUMER FINANCIAL PROTECTION

[Docket No: CFPB-2018-0020]

Privacy Act of 1974; System of Records

AGENCY: Bureau of Consumer Financial Protection.

ACTION: Notice of Modified Systems of Record.

SUMMARY: In accordance with the Privacy Act of 1974, as amended, the Bureau of Consumer Financial Protection (Bureau or CFPB) gives notice of the establishment of a modified Privacy Act System of Records.

DATES: Comments must be received no later than June 20, 2018. This Modification will be effective upon publication in today's Federal Register.

ADDRESSES: You may submit comments, identified by the title and docket number (see above), by any of the following methods:

• Electronic: privacy@cfpb.gov or http://www.regulations.gov. Follow the instructions for submitting comments.

• Mail: Claire Stapleton, Chief Privacy Officer, Bureau of Consumer Financial Protection, 1700 G Street NW, Washington, DC 20552.

• Hand Delivery/Courier: Claire Stapleton, Chief Privacy Officer, Bureau of Consumer Financial Protection, 1700 G Street NW, Washington, DC 20552.

Comments will be available for public inspection and copying at 1700 G Street NW, Washington, DC 20552, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, at (202) 435-7220. If you require this document in an alternative electronic format, please contact CFPB_Accessibility@cfpb.gov.

SUPPLEMENTARY INFORMATION: The Bureau revises each of its Privacy Act System of Records Notices contained in its inventory of record systems.

The Bureau modifies the purpose(s) for which each system is maintained to clarify that the information in each Bureau system will be used to ensure quality control, performance, and improve management processes. This clarification will be added to the purpose section of each Bureau system of record notice published in the Federal Register. The Federal Register citation for all Bureau system of records notices can be found in the History section of this Notice of a Modified System of Records.

The Bureau also modifies the list of routine uses of records maintained in each Bureau system in accordance with Office of Management and Budget's (OMB) 2017 guidance to assist Federal agencies prepare for and respond to a breach of personally identifiable information. The first routine use in each Bureau system of records notice is revised to mirror the text presented in the first routine use below. The second routine use presented below is being added to each Bureau system of records notice; and, the routine uses in each system of records are renumbered to account for this new routine use. These revisions will be added to the section that lists the routine uses for records in each Bureau system of records notice published in the Federal Register. The Federal Register citation for all Bureau system of records notices can be found in the History section of this Notice of a Modified System of Records.

The report of the modified systems of records has been submitted to the Committee on Oversight and Government Reform of the House of Representatives, the Committee on Homeland Security and Governmental Affairs of the Senate, and the Office of Management and Budget, pursuant to OMB Circular A-108, “Federal Agency Responsibilities for Review, Reporting, and Publication under the Privacy Act” and the Privacy Act, 5 U.S.C. 552a(r).

Dated: May 14, 2018.
Claire Stapleton,
Chief Privacy Officer, Bureau of Consumer Financial Protection.

SYSTEM NAMES AND NUMBERS

CFPB.001 CFPB Freedom of Information Act/Privacy Act System; CFPB.002 CFPB Depository Institution Supervision Database; CFPB.003 CFPB Non-depository Supervision Database; CFPB.004 CFPB Enforcement Database; CFPB.005 CFPB Consumer Response System; CFPB.006 Social Networks and Citizen Engagement System; CFPB.007 CFPB Directory Database; CFPB.008 Transit Subsidy Program; CFPB.009 Employee Administrative Records System; CFPB.010 Ombudsman System; CFPB.011 Correspondence Tracking System; CFPB.013 External Contact Database; CFPB.014 Direct Registration and User Management System; CFPB.015 CFPB Ethics Program Records; CFPB.016 CFPB Advisory Boards and Committees; CFPB.017 CFPB Small Business Review Panels and Cost of Credit Consultations; CFPB.018 Litigation Files; CFPB.019 Nationwide Mortgage Licensing System and Registry; CFPB.020 CFPB Site Badge and Visitor Management Systems; CFPB.021 CFPB Consumer Education and Engagement Records; CFPB.022 Market and Consumer Research Records; CFPB.023 CFPB Prize Competitions Program Records; CFPB.025 Civil Penalty Fund and Bureau-Administered Redress Program Records; CFPB.026 Biographies.

SECURITY CLASSIFICATION:

Bureau information systems do not contain any classified information or data.

SYSTEM LOCATION:

The location of a Bureau system can be found by reviewing the system of records notice published in the Federal Register. The Federal Register citation for all Bureau system of records notices can be found in the History section of this Notice of a Modified System of Records.

SYSTEM MANAGER(S):

The system manager of a Bureau system can be found by reviewing the system of records notice published in the Federal Register. The Federal Register citation for all Bureau system of records notices can be found in the History section of this Notice of a Modified System of Records.

PURPOSE(S) OF THE SYSTEM:

The information collected for each system will also be used for administrative purposes to ensure quality control, performance, and improve management processes.

ROUTINE USES OF RECORDS MAINTAINED IN THE SYSTEM, INCLUDING CATEGORIES OF USERS AND PURPOSES OF SUCH USES:

These records may be disclosed in accordance with OMB Memorandum M-17-12, “Preparing for and Responding to a Breach of Personally Identifiable Information,” to:

(1) appropriate agencies, entities, and persons when (a) CFPB suspects or has confirmed that there has been a breach of the system of records; (b) CFPB has determined that as a result of the suspected or confirmed there is a risk of harm to individuals, CFPB (including its information systems, programs, and operations), the Federal Government or national security; and (b) the disclosure made to such agencies, entities, and persons is reasonably necessary to assist in connection with CFPB's efforts to respond to the suspected or confirmed breach or to prevent, minimize, or remedy such harm.

(2) another Federal agency or Federal entity, when the CFPB determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

HISTORY:

79 FR 78837 (Dec. 31, 2014) (CFPB.001 CFPB Freedom of Information Act/Privacy Act System); 76 FR 45765 (Aug. 1, 2011) (CFPB.002 CFPB Depository Institution Supervision Database); 76 FR 45761 (Aug. 1, 2011) (CFPB.003 CFPB Non-depository Supervision Database); 76 FR 45757 (Aug. 1, 2011) (CFPB.004 CFPB Enforcement Database); 79 FR 21440 (Apr. 16, 2014) (CFPB.005 CFPB Consumer Response System); 78 FR 50041 (Aug. 16, 2013) (CFPB.006 Social Networks and Citizen Engagement System); 78 FR 54630 (Sept. 5, 2013) (CFPB.007 CFPB Directory Database); 76 FR 68395 (Nov. 4, 2011) (CFPB.008 CFPB Transit Subsidy Program); 81 FR 27104 (May 5, 2016) (CFPB.009 Employee Administrative Records System); 79 FR 6192 (Feb. 3, 2014) (CFPB.010 Ombudsman System); 78 FR 76286 (Dec. 17, 2013) (CFPB.011 Correspondence Tracking System); 77 FR 59386 (Sept. 27, 2012) (CFPB.013 CFPB External Contact Database); 77 FR 24185 (Apr. 23, 2012) (CFPB.014 Direct Registration and User Management System); 77 FR 1049 (Jan. 9, 2012) (CFPB.015 CFPB Ethics Program Records); 78 FR 25428 (May 1, 2013) (CFPB.016 CFPB Advisory Boards and Committees); 77 FR 24183 (Apr. 23, 2012) (CFPB.017 CFPB Small Business Review Panels and Cost of Credit Consultations); 77 FR 27446 (May 10, 2012) (CFPB.018 Litigation Files); 77 FR 35359 (June 13, 2012) (CFPB.019 Nationwide Mortgage Licensing System and Registry); 77 FR 56623 (Sept. 13, 2012) (CFPB.020 CFPB Site Badge and Visitor Management Systems); 79 FR 78839 (Dec. 31, 2014) (CFPB.021 CFPB Consumer Education and Engagement Records); 77 FR 67802 (Nov. 14, 2012) (CFPB.022 Market and Consumer Research Records); 77 FR 64962 (Oct. 24, 2012) (CFPB.023 CFPB Prize Competitions Program Records); 78 FR 34991 (June 11, 2013) (CFPB.025 Civil Penalty Fund and Bureau-Administered Redress Program Records); 78 FR 69834 (Nov. 21, 2013) (CFPB.026 Biographies).

[FR Doc. 2018-10809 Filed 5-18-18; 8:45 am]

BILLING CODE 4810-AM-P